DEPARTMENT OF AGRICULTURE

Forest Service

Eastern Idaho Resource Advisory Committee

AGENCY: Forest Service, USDA.

ACTION: Notice of meeting.

SUMMARY: The Eastern Idaho Resource Advisory Committee (RAC) will meet virtually. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/ctnf/workingtogether/advisorycommittees.

DATES: The meetings will be held on:

• May 18, 2021 at 9:00 a.m., Mountain Daylight Time; and

• May 19, 2021 at 9:00 a.m., Mountain Daylight Time.

All RAC meetings are subject to cancellation. For status of the meeting prior to attendance and information on how to connect to the meeting, please contact the person listed under For Further Information Contact.

ADDRESSES: The meetings will be held virtually. Written comments may be submitted as described under Supplementary Information. All comments, including names and addresses when provided, are placed in the record and are available for public inspection and copying. The public may inspect comments received at the Dubois Ranger District Office, 98 N Oakley, Dubois, ID 83420.

FOR FURTHER INFORMATION CONTACT: Bill Davis, RAC Coordinator, by phone at 208-374-5422 or via email at william.davis6@usda.gov

Individuals who use telecommunication devices for the hearing-imparied (TDD) may call the Federal Information Relay Service (FIRS) at 1-800-877-8339 between 8:00 a.m. and 8:00 p.m., Eastern Daylight Time, Monday through Friday.

SUPPLEMENTARY INFORMATION: The purpose of the meeting is to:

1. Discuss current status of RAC;

2. Elect a Committee Chair; and

3. Discuss and make recommendations on new Secure Rural Schools Title II projects.

The meetings are open to the public. The agendas will include time for individuals to make oral statements of three minutes or less. Individuals wishing to make an oral statement at any of the meetings should request in writing by Friday, April 30, 2021, to be scheduled on the agenda for that particular meeting. Individuals who would like to bring related matters to the attention of the committee may file written statements with the committee staff before or after the meeting. Written comments and requests for time for oral comments must be sent to Bill Davis, RAC Coordinator, P.O. Box 46, Dubois, ID 83420; by email to william.davis6@usda.gov, or via facsimile to 208-374-5623.

Meeting Accommodations: If you are a person requiring reasonable accommodation, please make requests in advance for sign language interpreting, assistive listening devices, or other reasonable accommodation. For access to the facility or proceedings, please contact the person listed in the section titled For Further Information Contact. All reasonable accommodation requests are managed on a case-by-case basis.

Authority: 44 U.S.C. 2101-2118; 50 U.S.C. 6909.

Dated: April 13, 2021.
Cikena Reid,
USDA Committee Management Officer.

[FR Doc. 2021-07903 Filed 4-16-21; 8:45 am]

BILLING CODE 3411-15-P